DEPARTMENT OF COMMERCE

Foreign-Trade Zones Board

Docket 23-2007

Foreign-Trade Zone 185 - Culpeper County, Virginia, Application for Expansion

An application has been submitted to the Foreign-Trade Zones Board (the Board) by the Culpeper County Chamber of Commerce, Inc., grantee of Foreign-Trade Zone 185, requesting authority to expand its zone to include a site in Augusta County, Virginia, adjacent to the Front Royal Customs and Border Protection port of entry. The application was submitted pursuant to the provisions of the Foreign-Trade Zones Act, as amended (19 U.S.C. 81a-81u), and the regulations of the Board (15 CFR Part 400). It was formally filed on July 13, 2007.

FTZ 185 was approved on May 22, 1992 (Board Order 578, 57 FR 23385, 6/3/92) and expanded on December 22, 1997 (Board Order 945, 63 FR 205, 1/5/98). The zone project currently consists of two sites in Culpeper County, Virginia: Site 1: (80 acres) at the Montanus Trade Center, located on Route 29 at Route 666; and, Site 2: (104 acres) located adjacent to the Culpeper County Airport, Route 29 North in the City of Elkwood.

The applicant is now requesting authority to expand the general- purpose zone to include an additional site (65 acres) located at 1 Solutions Way, Waynesboro, Augusta County, Virginia. The site is owned by Solutions Way Management LLC and will be operated by REO Distribution Services.

No specific manufacturing requests are being made at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is September 24, 2007. Rebuttal comments in response to material submitted during the foregoing period may be submitted during the subsequent 15-day period to October 9, 2007.

A copy of the application and accompanying exhibits will be available for public inspection at each of the following locations:

Culpeper County Chamber of Commerce, 109 South Commerce Street, Culpeper, Virginia 22701

Office of the Executive Secretary, Foreign-Trade Zones Board, U.S. Department of Commerce, Room 2111, 1401 Constitution Avenue, NW, Washington, DC 20230

For further information contact Claudia Hausler at Claudia_Hausler@ita.doc.gov or (202)-482-1379.

Dated: July 13, 2007.
Andrew McGilvray,
Executive Secretary.

[FR Doc. E7-14322 Filed 7-23-07; 8:45 am]

BILLING CODE 3510-DS-S